DEPARTMENT OF THE INTERIOR

National Park Service

Notice of Availability

AGENCY: National Park Service, Interior.

SUMMARY: National Park Service (NPS) has prepared a Final Environmental Impact Statement (EIS) for Acadia National Park, Schoodic General Management Plan Amendment, which is now available from the NPS.

ADDRESSES: Request for copies should be sent to Superintendent, Acadia National Park, P.O. Box 177, Bar Harbor, Maine 04609.

FOR FURTHER INFORMATION CONTACT: Superintendent at 207-288-8703.

SUPPLEMENTARY INFORMATION: The NPS prepared a Draft General Management Plan Amendment (GMPA)/Draft EIS for Acadia National Park, Maine, pursuant to section 102(2)(c) of the National Environmental Policy Act of 1969. The draft was made available for public review for 60 days (September-November 2004), during which time the NPS distributed over 160 copies of the plan. Also, the full text and graphics were posted on the park's NPS Planning Web sites. NPS received 14 comment letters and 50 people participated in a public meeting held October 20, 2004. Oral and written comments were considered by the NPS and informed the preparation of the final environmental impact statement. The consensus of the public comment was that the NPS was pursuing the correct path for Acadia National Park in Alternative C, the preferred alternative. An abbreviated format is used for the final EIS because changes to the Draft GMPA/Draft EIS are confined primarily to factual corrections and explanations as to why comments do not warrant further agency response. Use of this format is in compliance with the 1978 regulations (40 CFR 1503.4(c)) for the National Environmental Policy Act.

DATES: The National Park Service will execute a Record of Decision no sooner than 30 days following publication by the Environmental Protection Agency of its notice of the availability of the final EIS.

Mary A. Bomar,
Regional Director, Northeast Region.

[FR Doc. 06-272 Filed 1-11-06; 8:45 am]

BILLING CODE 4312-52-M